DEPARTMENT OF HEALTH AND HUMAN SERVICES

Agency for Toxic Substances and Disease Registry

[ATSDR-254]

Notice of Development of Set 23 Toxicological Profiles

AGENCY: Agency for Toxic Substances and Disease Registry (ATSDR), Department of Health and Human Services (HHS).

ACTION: Notice.

SUMMARY: This notice announces the development of Set 23 Toxicological Profiles. Set 23 Toxicological Profiles consists of three new drafts and two updated drafts. These profiles will be available to the public on or about October 17, 2009. Electronic access to these documents will be available at the ATSDR Web site: http://www.atsdr.cdc.gov/toxpro2.html.

Set 23 Toxicological Profiles

The following toxicological profiles are now being developed:

Toxicological profile | CAS No.
1. Acrylamide* | 79-06-1
2. Carbon Monoxide* | 630-08-0
3. 1,3-Butadiene | 106-99-0
4. Phosphate Ester Flame Retardants* | 126-73-8, 126-71-6, 78-51-3, 115-86-6, 13674-84-5, 13674-87-8, 115-96-8
5. Vanadium | 7440-62-2
* Denotes new profile.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the Priority List of Hazardous Substances (http://www.atsdr.cdc.gov/cercla/07list.html). This list names 275 hazardous substances that pose the most significant potential threat to human health as determined by ATSDR and EPA. The availability of the revised list of the 275 priority substances was announced in the Federal Register on March 6, 2008 (73 FR 12178). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014); November 7, 2003 (68 FR 63098); and December 7, 2005 (70 FR 70284).

The Set 23 Toxicological Profiles for 1,3-Butadiene and Vanadium are updates of previously published profiles for NPL priority substances. In addition, to address emerging public health concerns related to substances not currently on the NPL, ATSDR is also developing Set 23 Toxicological Profiles for Carbon Monoxide, Acrylamide, and Phosphate Ester Flame Retardants. Carbon monoxide is a toxic gas produced from the incomplete combustion of carbon-based fuels. Because it is colorless and odorless, toxicity can occur with no indication that exposure is occurring. Thousands of hospitalizations and hundreds of deaths occur every year as a result of inadvertent exposure to carbon monoxide. Acrylamide is a known animal carcinogen that is widely used in industry to synthesize polyacrylamides. Acrylamide also occurs naturally in a few foods, is formed in many foods as a byproduct of numerous cooking processes, and has been detected recently in human biomonitoring studies. Phosphate ester flame retardants comprise a large group of structurally related chemicals with increasing uses in clothing, fabrics, furniture, and structural components. However, there is an increasing body of information regarding exposures, body burdens, and toxicity related to this group of chemicals.

Notice of the availability of drafts of these two updated and three new toxicological profiles for public review and comment will be published in the Federal Register on/or about October 17, 2009, with notice of a 90-day public comment period for each profile, starting from the actual release date. Following the close of the comment period, chemical-specific comments will be addressed, and, where appropriate, changes will be incorporated into each profile.

FOR FURTHER INFORMATION CONTACT: Commander Jessilynn B. Taylor, Division of Toxicology and Environmental Medicine, Agency for Toxic Substances and Disease Registry, 1600 Clifton Road, NE., Mail Stop F-32, Atlanta, GA 30333, telephone 770-488-3313.

Ken Rose,
Director, Office of Policy, Planning and Evaluation, National Center for Environmental Health/Agency for Toxic Substances and Disease Registry.

[FR Doc. E9-17527 Filed 7-22-09; 8:45 am]

BILLING CODE 4163-70-P